ENVIRONMENTAL PROTECTION AGENCY

[FRL-9459-7]

Aquatic Ecosystems, Water Quality, and Global Change: Challenges of Conducting Multi-Stressor Vulnerability Assessments—Release of Final Report

AGENCY: Environmental Protection Agency (EPA).

ACTION: Notice of Availability.

SUMMARY: EPA is releasing a final report entitled, Aquatic Ecosystems, Water Quality, and Global Change: Challenges of Conducting Multi-stressor Vulnerability Assessments, (EPA/600/R-11/011F). The document was prepared by the National Center for Environmental Assessment (NCEA) within EPA's Office of Research and Development.

This report investigates the issues and challenges associated with identifying, calculating, and mapping indicators of the relative vulnerability of water quality and aquatic ecosystems across the United States to the potential impacts of global change. Using a large set of environmental indicators drawn from scientific literature and data, this final report explores the conceptual and practical challenges associated with using such indicators to assess the resilience of ecosystems and human systems to a variety of existing stresses and mal-adaptations.

DATES: The report was posted publicly on August 26, 2011.

ADDRESSES: The report, Aquatic Ecosystems, Water Quality, and Global Change: Challenges of Conducting Multi-stressor Vulnerability Assessments, is available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, mailing address, and the document title.

FOR FURTHER INFORMATION CONTACT: For additional information, contact the National Center for Environmental Assessment; Chris Weaver; telephone: 703-347-8621; facsimile: 703-347-8694; or e-mail: weaver.chris@epa.gov.

SUPPLEMENTARY INFORMATION:

Information About the Project/Document

This report investigates the issues and challenges associated with identifying, calculating, and mapping indicators of relative vulnerability of water quality and aquatic ecosystems across the United States to the potential adverse impacts of external forces, such as long-term climate and land-use change.

The report does not directly evaluate the potential impacts of global change on ecosystems and watersheds. Rather, it explores the assumption that the impacts of existing stressors will be a key input to any comprehensive global change vulnerability assessment, and the impacts of global change will be expressed via interactions with these stressors. To date, there has been relatively little exploration of the assumption that the practical challenges associated with assessing the resilience of ecosystems and human systems might vary as a result of existing global change stresses and mal-adaptations. The work described in this report is a preliminary attempt at such an exploration.

This report uses more than 600 indicators of water quality and aquatic ecosystem conditions drawn from numerous scientific literature and datasets from within EPA, additional Federal agencies, and other organizations. The report serves as a starting point for identifying challenges in calculating and mapping national vulnerabilities. The challenges identified include gaps in ideas, methods, data, and tools. Some of those specific challenges are:

• Identifying those indicators that speak specifically to “vulnerability” as opposed to those reflecting simply a state or condition;

• Calculating and estimating the values of these vulnerability indicators, including establishing important indicator thresholds that reflect abrupt or large changes in the vulnerability of water quality or aquatic ecosystems;

• Mapping these vulnerability indicators nationally, including data availability and spatial aggregation of the data; and

• Combining and compositing indicators and developing multi-indicator indices of vulnerability.

This report is intended to be a building block for future work on multi-stressor global change vulnerability assessments. Hopefully, it will contribute to improve links between the decision support needs of the water quality and aquatic ecosystem management communities and the priorities and capabilities of the global change science data and modeling communities.

Dated: August 15, 2011.
Joseph DeSantis,
Acting Director, National Center for Environmental Assessment.

[FR Doc. 2011-22669 Filed 9-2-11; 8:45 am]

BILLING CODE 6560-50-P